DEPARTMENT OF DEFENSE

Department of the Army; Corps of Engineer

Intent To Prepare a Draft Supplemental Environmental Impact Statement for the Big Sunflower River Maintenance Feasibility Report

AGENCY: Department of the Army, U.S. Army Corps of Engineer, DoD.

ACTION: Notice of Intent.

SUMMARY: Authorized channel improvements in the Big Sunflower River Basin began in the 1940s and were completed in the 1960s. The work consisted of channel improvements on a number of streams including the Big Sunflower and Little Sunflower Rivers and Bogue Phalia; channel improvements consisted primarily of clearing and snagging, with some channel enlargement and channel cleanout. The Big Sunflower River Basin has experienced extensive flooding to agricultural land and urban areas in recent years. Results of surveys taken and engineering data collected indicated the lower reaches of the project streams had experienced loss of designed capacity due to vegetation growth and sediment accumulation, thereby requiring major maintenance. Corrective maintenance actions will require extensive channel cleanout, channel clearing, and snagging within the Big Sunflower channel system.

FOR FURTHER INFORMATION CONTACT: Questions about the proposed action and Draft Supplemental Environmental Impact Statement (DSEIS) should be directed to: Mr. Marvin Cannon, Vicksburg District Corps of Engineers, 4155 Clay Street, CEMVK-PP-PQ, Vicksburg, MS 39183-3435 or telephone (601) 631-5437.

SUPPLEMENTARY INFORMATION: This project is authorized by the Flood Control Act (FCA) of December 22, 1944 (House Document [HD] 516-78-2), as amended by FCAs of July 24, 1946, and May 17, 1950, October 23, 1962 (HD-358-89-2), and October 27, 1965 (HD-308-88-2).

1. A Final Environmental Impact Statement (FEIS), Flood Control, Mississippi River and Tributaries, Yazoo Basin, Mississippi, was completed in December 1975, covering the original flood control project on Big Sunflower River. A Final Supplemental No. 2 to the FEIS, Flood Control, Mississippi River and Tributaries, Yazoo Basin, Mississippi, Big Sunflower River Maintenance Project was completed in July 1996, for maintenance of the original flood control project on the Big Sunflower River. A Draft Environmental Assessment (EA) was prepared in February 2002 to supplement the information contained in Supplement No. 2 to the FEIS, Flood Control, Mississippi River and Tributaries, Yazoo Basin, Mississippi, Big Sunflower River Maintenance Project. The Draft EA was circulated for agency and public review and comment. To ensure the environmental sustainability of this project, the District Engineer has decided to prepare a DSEIS No. 3 to the FEIS, Flood Control, Mississippi River and Tributaries, Yazoo Basin, Mississippi, Big River Maintenance Project.

2. The proposed action involves evaluating several non-structural and structural alternatives of channel cleanout of sediment and debris from the channel bottoms and channel clearing and snagging to restore the project channels to authorized design capacities.

3. A public scoping meeting will be held in December 2002 in Rolling Fork, MS. Significant issues identified during this scoping process will be analyzed in depth in the DSEIS. The following agencies are invited to cooperate: The U.S. Coast Guard; Natural Resources Conservation Service; U.S. Forest Service; U.S. Environmental Protection Agency; U.S. Fish and Wildlife Service; Mississippi Department of Environmental Quality; and Mississippi Department of Wildlife, Fisheries and Parks. Federally recognized Indian Tribes will also be invited to cooperate. These agencies and tribes will be asked to participate in the review of study data and the DSEIS.

4. Upon completion, the DSEIS will be distributed for agency and public review and comment. Additionally, a public meeting will be held to present results of the DSEIS evaluations and the recommended plan.

5. The DSEIS is estimated to be completed in November 2003.

Frederick L. Clapp, Jr.,
Colonel, Corps of Engineers, District Engineer.

[FR Doc. 02-28358 Filed 11-6-02; 8:45 am]

BILLING CODE 3710-PU-M